DEPARTMENT OF TRANSPORTATION

Federal Aviation Administration

Notice of Opportunity for Public Comment on Surplus Property Release at Henry Tift Myers Airport, Tifton, GA

AGENCY: Federal Aviation Administration (FAA), DOT.

ACTION: Notice.

SUMMARY: Under the provisions of Title 49, U.S.C. Section 47153(c), notice is being given that the FAA is considering a request from the City of Tifton and Tift County to waive the requirement that approximately 2-acres of surplus property, located at the Henry Tift Myers Airport, be used for aeronautical purposes.

DATES: Comments must be received on or before December 13, 2006.

ADDRESSES: Comments on this notice may be mailed or delivered in triplicate to the FAA at the following address: Atlanta Airports District Office, Attn: Chuck Garrison, Program Manager, 1701 Columbia Ave., Suite 2-260, Atlanta, GA 30337-2747.

In addition, one copy of any comments submitted to the FAA must be mailed or delivered to Robert G. Anderson, M.D., Chairman, Tifton-Tift County Airport Authority at the following address: Henry Tift Myers Airport, Post Office Box 826, Tifton, GA 31793.

FOR FURTHER INFORMATION CONTACT: Chuck Garrison, Program Manager, Atlanta Airports District Office, 1701 Columbia Ave., Suite 2-260, Atlanta, GA 30337-2747, (404) 305-7145. The application may be reviewed in person at this same location.

SUPPLEMENTARY INFORMATION: The FAA is reviewing a request by the City of Tifton and Tift County to release approximately 2 acres of surplus property at the Henry Tift Myers Airport. The property consists of one parcel located South of Tifton Eldorado Road (Formerly, Lower Brookfield Road), and to the West of Tri County Road. This property is currently shown on the approved Airport Layout Plan as aeronautical use land; however the property is currently not being used for aeronautical purposes and the proposed use of this property is compatible with airport operations. The City/County will ultimately use this land to acquire a 2.33 acre parcel located south of Washington Street, and East of Highway 41 South. The Washington Street property is located within the FAR Part 77 Primary and Transitional Approach Surfaces for a Precision Instrument Runway, and will be used to protect the approach surface to Runway 15.

Any person may inspect the request in person at the FAA office listed above under FOR FURTHER INFORMATION CONTACT. In addition, any person may, upon request, inspect the request, notice and other documents germane to the request in person at the Henry Tift Myers Airport.

Issued in Atlanta, Georgia on October 23, 2006.
Scott L. Seritt,
Manager, Atlanta Airports District Office, Southern Region.

[FR Doc. 06-9178 Filed 11-9-06; 8:45 am]

BILLING CODE 4910-13-M